NATIONAL SCIENCE FOUNDATION

Advisory Panel for Integrative Activities, #1373; Notice of Meeting

In accordance with the Federal Advisory Committee Act (Pub. L. 92-463, as amended), the National Science Foundation announces the following meeting.

Name: Ad Hoc Advisory Committee on the Merit Review Process (MRPAC).

Date/Time: October 12, 2011; 12 p.m.-4 p.m., EDT.

Place: National Science Foundation, 4201 Wilson Boulevard, Room II-515, Arlington, VA.

Type of Meeting: Open.

Contact Person: Ms. Victoria Fung, National Science Foundation 4201 Wilson Boulevard, Room II-515, Arlington, VA 22230. E-mail: vfung@nsf.gov. Telephone: (703) 292-8040.

If you plan to attend the meeting, please send an e-mail with your name and affiliation to the individual listed above, by the day before the meeting, so that a visitor badge can be prepared.

Purpose of Meeting: To provide advice concerning issues related to NSF's merit review process.

Agenda:

• Welcome.

• Discussion of experiments with enhancements to the merit review process.

• Update on outreach activities.

Dated: September 20, 2011.
Susanne Bolton,
Committee Management Officer.

[FR Doc. 2011-24486 Filed 9-22-11; 8:45 am]

BILLING CODE 7555-01-P